DEPARTMENT OF DEFENSE

Defense Logistics Agency

Privacy Act of 1974; Systems of Records

AGENCY: Defense Logistics Agency, DoD.

ACTION: Notice to add a system of records.

SUMMARY: The Defense Logistics Agency proposes to add a system of records notice to its inventory of record systems subject to the Privacy Act of 1974 (5 U.S.C. 552a), as amended.

DATES: This action will be effective without further notice on February 4, 2004 unless comments are received that would result in a contrary determination.

ADDRESSES: Send comments to the Privacy Act Officer, Headquarters, Defense Logistics Agency, ATTN: DSS-B, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on December 16, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 24, 2003.
L.M. Bynum,
Alternate OSD Federal Register Liaison Officer, Department of Defense.

S600.40

System name:

Readiness and Accountability Records.

System location:

Customer Operations and Readiness, Headquarters Defense Logistics Agency, 8725 John J. Kingman, Road, Stop 4141, Fort Belvoir, VA 22060-6221, and the heads of DLA field activities. Official mailing addresses are published as an appendix to DLA's compilation of systems of records notices.

Categories of individuals covered by the system:

Military members assigned to DLA, employees, and contractors who are injured, made ill, involuntarily absent, or otherwise unaccounted for as a result of contingent or hostile operations.

Categories of records in the system:

Name; Social Security Number; age; home addresses (surface and electronic); home telephone numbers; duty assignment data; and details of the incident, including status reports.

Authority for maintenance of the system:

10 U.S.C. 136, Under Secretary of Defense for Personnel and Readiness; 10 U.S.C. 1501 et seq., Missing Persons; 29 U.S.C. 651 et seq., The Occupational Safety and Health Act of 1970 (OSHA); E.O. 9397 (SSN); E.O. 12196, Occupational Safety and Health Programs for Federal Employees; 29 CFR 1960, Subpart I, Recordkeeping and Reporting Requirements for Federal Occupational Safety and Health Programs.

Purpose(s):

Information is maintained to account for individuals during contingent or hostile operations; to comply with reporting requirements; to analyze readiness; and to prepare statistical reports as required.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor to comply with the requirement to report Federal civilian employee on-the-job accidents (29 CFR part 1960).

To the primary next of kin, other family members or a previously designated person, upon request, to comply with 10 U.S.C. 1501 and 1506.

The DoD ‘Blanket Routine Uses’ set forth at the beginning of DLA's compilation of systems of records notices apply to this system.

Policies and practices for storing, retrieving, accessing, retaining, and disposing of records in the system:

Storage:

Records are stored in paper and electronic formats.

Retrievability:

Retrieved by name, Social Security Number, or hostile/contingent area.

Safeguards:

Records are maintained in a controlled area with physical entry restricted by the use of badges, card swipe, or sign-in protocols. Electronic records are deployed on an accredited, password controlled system utilizing system-generated forced password change protocols. Users are trained to lock or shutdown their workstations when leaving the work area. Paper records are maintained in areas accessible only to DLA personnel who must use the records to perform their duties. Records are secured in locked or guarded buildings, locked offices, or locked cabinets during non-duty hours.

Retention and disposal:

Records are destroyed 2 years after no further action is required or when no longer needed, whichever is later.

System manager(s) and address:

Director, Customer Operations and Readiness (J-4), Headquarters, Defense Logistics Agency, 8725 John J. Kingman Road, Stop 4141, Fort Belvoir, VA 22060-6221; and the heads of DLA field level activities. Official mailing addresses are published as an appendix to DLA's compilation of systems of records notices.

Notification procedure:

Individuals seeking to determine whether this system of records contains information about themselves should address written inquiries to the Privacy Act Officer, Defense Logistics Agency, ATTN: DSS-B, 8725 John J. Kingman Road, Stop 6220, Fort Belvoir, VA 22060-6221, or the Privacy Act Officer of the particular DLA field activity involved. Official mailing addresses are published as an appendix to DLA's compilation of systems of records notices.

Record access procedures:

Individuals seeking access to records about themselves contained in this system of records should address inquiries to the Privacy Act Officer, Defense Logistics Agency, ATTN: DSS-B, 8725 John J. Kingman Road, Stop 6220, Fort Belvoir, VA 22060-6221, or the Privacy Act Officer of the particular DLA field activity involved. Official mailing addresses are published as an appendix to DLA's compilation of systems of records notices.

Contesting record procedures:

The DLA rules for accessing records, for contesting contents and appealing initial agency determinations are contained in 32 CFR part 323 or may be obtained from the Privacy Act Officer, Headquarters, Defense Logistics Agency, ATTN: DSS-B, 8725 John J. Kingman Road, Stop 6220, Fort Belvoir, VA 22060-6221.

Record source categories:

Record subjects, commanders, supervisors, medical units, security offices, police and fire departments, investigating officers, and witnesses.

Exemptions claimed for the system:

None.

[FR Doc. 04-25 Filed 1-2-04; 8:45 am]

BILLING CODE 5001-06-U